FEDERAL MARITIME COMMISSION

Notice of Agreements Filed

The Commission hereby gives notice of the filing of the following agreements under the Shipping Act of 1984. Interested parties may submit comments on agreements to the Secretary, Federal Maritime Commission, Washington, DC 20573, within ten days of the date this notice appears in the Federal Register. Copies of agreements are available through the Commission's Office of Agreements (202-523-5793 or tradeanalysis@fmc.gov).

Agreement No.: 011870-003.

Title: Indian Subcontinent Discussion Agreement.

Parties: Evergreen Marine Corp. (Taiwan) Ltd., Hapag-Lloyd AG; CMA CGM S.A.; United Arab Shipping Company; Zim Integrated Shipping Services, Ltd,; Shipping Corporation of India; Emirates Shipping Line FZE; MacAndrews & Company Limited; and Nippon Yusen Kaisha.

Filing Party: David F. Smith, Esq.; Sher & Blackwell; 1850 M Street, NW.; Suite 900; Washington, DC 20036.

Synopsis: The amendment adds United Arab Shipping Company as a party to the agreement.

Agreement No.: 011956-001.

Title: IDX Vessel Sharing Agreement.

Parties: Emirates Shipping Line FZE; Shipping Corporation of India, Ltd.; and Zim Integrated Shipping Services, Ltd.

Filing Party: Paul M. Keane, Esq.; 61 Broadway; Suite 3000; New York, NY 10006-2802.

Synopsis: The amendment deletes MacAndrews & Company, Ltd. as a party and makes conforming changes to the agreement.

Agreement No.: 011981.

Title: MacAndrews/Emirates Shipping Line IDX Space Charter Agreement.

Parties: Emirates Shipping Line FZE (“Emirates”) and MacAndrews & Company Ltd. (“MacAndrews”).

Filing Party: Paul M. Keane, Esq.; 61 Broadway; Suite 3000; New York, NY 10006-2802.

Synopsis: The agreement authorizes Emirates to charter space to MacAndrews between U.S. Atlantic Coast ports and ports in Italy, Spain, India, Pakistan, Bangladesh, and Sri Lanka.

By Order of the Federal Maritime Commission.
Dated: November 22, 2006.
Bryant L. VanBrakle,
Secretary.

[FR Doc. E6-20135 Filed 11-27-06; 8:45 am]

BILLING CODE 6730-01-P